FEDERAL COMMUNICATIONS COMMISSION

Public Information Collections Approved by Office of Management and Budget

June 3, 2008.

SUMMARY: The Federal Communications Commission (FCC) has received Office of Management and Budget (OMB) approval for the following public information collections pursuant to the Paperwork Reduction Act of 1995, Public Law 104-13. An agency may not conduct or sponsor, and a person is not required to respond to, a collection of information unless it displays a currently valid control number.

FOR FURTHER INFORMATION CONTACT: Dana Wilson, Federal Communications Commission, 445 12th Street, SW., Washington, DC 20554, (202) 418-2247 or via the Internet at Dana.Wilson@fcc.gov.

SUPPLEMENTARY INFORMATION: OMB Control No.: 3060-0519.

OMB Approval Date: 11/26/2007.

Expiration Date: 11/30/2010.

Title: Rules and Regulations Implementing the Telephone Consumer Protection Act of 1991, Order, CG Docket No. 02-278.

Form No.: N/A.

Estimated Annual Burden: 135,607,383 responses; .004 (15 seconds) to 3 hours per response; 708,806 total annual hourly burden.

Needs and Uses: The reporting requirements included under OMB Control Number 3060-0519 enable the Commission to gather information regarding violations of the Do-Not-Call Implementation Act (Do-Not-Call Act). If the information collection was not conducted, the Commission would be unable to track and enforce violations of the Do-Not-Call Act. The Do-Not-Call rules provide consumers with several options for avoiding most unwanted telephone solicitations.

The National Do-Not-Call Registry supplemented company-specific do-not-call rules, though consumers may give specific companies permission to call them through an express written agreement even if such consumers have registered with the National Do-Not-Call Registry. Nonprofit organizations, companies with whom consumers have an established business relationship, and calls to persons with whom the telemarketer has a personal relationship are exempt from the do-not-call requirements.

OMB Control No.: 3060-0653.

OMB Approval Date: 04/24/2008.

Expiration Date: 04/30/2011.

Title: Section 64.703 (b) and (c), Consumer Information—Posting by Aggregators.

Form No.: N/A.

Estimated Annual Burden: 5,339,038 responses; .017 to 3 hours per response; 172,631 total annual hourly burden.

Needs and Uses: Pursuant to the information collection requirements included under OMB Control Number 3060-0653, aggregators making telephones available to the public or transient users of their premises under 47 U.S.C. 226(c)(1)(A) and 47 CFR 64.703(b) must post in writing, on or near such phones, information about pre-subscribed operator services, rates, carrier access, and the FCC address to which consumers may direct complaints. Section 64.703(c) of the Commission's rules establishes a 30-day outer limit for updating the posted consumer information when an aggregator has changed the pre-subscribed operator service provider (OSP). Consumers will use this information to determine whether they wish to use the services of the identified OSP.

OMB Control No.: 3060-0833.

OMB Approval Date: 04/08/2008.

Expiration Date: 04/30/2011.

Title: Implementation of Section 255 of the Telecommunications Act of 1996: Complaint Filings.

Form No.: N/A.

Estimated Annual Burden: 85,154 responses; 0.25 to 5 hours per response; 80,184 total annual hourly burden.

Needs and Uses: The information collection requirements included under this OMB Control Number 3060-0833 govern the filing of complaints with the Commission as part of the implementation of section 255 of the Telecommunications Act of 1996, which seeks to ensure that telecommunications equipment and services are available to all Americans, including those individuals with disabilities. As with any complaint procedure, a certain number of regulatory and information burdens are necessary to ensure compliance with FCC rules. The information collection requirements also give full effect to the accessibility policies embodied in section 255, by requiring telecommunications equipment manufacturers and service providers to make end-user product documentation available in alternate formats, including providing contact information to request such documentation, and by requiring them to demonstrate how they considered accessibility during product development, when no other affirmative defenses to a complaint are pertinent.

OMB Control No.: 3060-1043.

OMB Approval Date: 03/24/2008.

Expiration Date: 03/31/2011.

Title: Telecommunications Relay Services and Speech-to-Speech Services for Individuals with Hearing and Speech Disabilities, Report and Order, CG Docket No. 03-123; FCC 04-137.

Form No.: N/A.

Estimated Annual Burden: 18 responses; 10 hours per response; 180 total annual hourly burden.

Needs and Uses: The reporting requirements included under OMB Control Number 3060-1043 enable the Commission to collect waiver reports from Video Relay Service (VRS) and Internet-Protocol Relay (IP Relay) providers requesting waivers from certain Telecommunications Relay Services (TRS) mandatory minimum standards. On June 30, 2004, the Commission released a Report and Order and Order on Reconsideration in Telecommunications Relay Services and Speech-to-Speech Services for Individuals with Hearing and Speech Disabilities, FCC 04-137. In the Report and Order, the Commission granted VRS and IP Relay providers waivers of the following TRS mandatory minimum requirements, amongst others: (1) 47 CFR 64.604(a)(3)—types of calls that must be handled; (2) 47 CFR 64.604(a)(4)—emergency call handling; and (3) 47 CFR 64.604(b)(3)—equal access to interexchange carriers. These waivers are granted provided that VRS and IP Relay providers submit annual reports to the Commission, in a narrative form, detailing: (1) The provider's plan or general approach to meet the waived standards; (2) any additional costs that would be required to meet the standards; (3) the development of any new technology that may affect the particular waivers; (4) the progress made by the provider to meet the standards; (5) the specific steps taken to resolve any technical problems that prohibit the provider from meeting the standards; and (6) any other factors relevant to whether the waiver should continue in effect.

OMB Control No.: 3060-1078.

OMB Approval Date: 11/20/2007.

Expiration Date: 11/30/2010.

Title: Rules and Regulations Implementing the Controlling the Assault of Non-Solicited Pornography and Marketing Act of 2003 (CAN-SPAM Act); CG Docket No. 04-53.

Form No.: N/A.

Estimated Annual Burden: 5,443,287 responses; 1 to 10 hours per response; 30,254,598 total annual hourly burden.

Needs and Uses: The reporting requirements included under OMB Control Number 3060-1078 enable the Commission to collect information regarding violations of the CAN-SPAM Act. This information is used to help wireless subscribers stop receiving unwanted commercial mobile services messages.

On August 12, 2004, the Commission released an Order, Rules and Regulations Implementing the Controlling the Assault of Non-Solicited Pornography and Marketing Act of 2003, CG Docket No. 04-53, FCC 04-194, adopting rules to prohibit the sending of commercial messages to any address referencing an Internet domain name associated with wireless subscribers' messaging services, unless the individual addressee has given the sender express prior authorization. The information collection requirements consist of 47 CFR 64.3100(a)(4), (d), (e) and (f).

OMB Control No.: 3060-1111.

OMB Approval Date: 01/15/2008.

Expiration Date: 01/31/2011.

Title: Sections 225 and 255, Interconnected Voice Over Internet Protocol Services (VoIP).

Form No.: N/A.

Estimated Annual Burden: 27,464 responses; 1 to 20 hours per response; 149,962 total annual hourly burden.

Needs and Uses: On June 15, 2007, the Commission released a Report and Order, IP-Enabled Services; Implementation of Sections 225 and 251(a)(2) of the Communications Act of 1934, as Enacted by the Telecommunications Act of 1996: Access to Telecommunications Service, Telecommunications Equipment and Customer Premises Equipment by Persons with Disabilities; Telecommunications Relay Services and Speech-to-Speech Services for Individuals with Hearing and Speech Disabilities; the Use of N11 Codes and Other Abbreviated Dialing Arrangements, FCC 07-110. FCC 07-110 extended the disability access requirements that apply to telecommunications service providers and equipment manufacturers under section 255 of the Communications Act of 1934, as amended (the Act), to providers of “interconnected voice over Internet Protocol (VoIP) services,” as defined by the Commission, and to manufacturers of specially designed equipment used to provide those services. In addition, the Commission extended to interconnected VoIP providers the TRS requirements contained in its regulations, pursuant to section 225(b)(1) of the Act. As applied to interconnected VoIP providers and to manufacturers of specialized VoIP equipment, several requirements adopted by FCC 07-110 contained new or modified information collection requirements.

Federal Communications Commission.
Marlene H. Dortch,
Secretary.

[FR Doc. E8-13263 Filed 6-12-08; 8:45 am]

BILLING CODE 6712-01-P